DEPARTMENT OF ENERGY

Federal Energy Regulatory Commission

[Docket No. RP96-359-005]

Transcontinental Gas Pipe Line Corporation; Notice of Compliance Filing

April 4, 2001.

Take notice that on March 30, 2001 Transcontinental Gas Pipe Line Corporation (Transco) tendered for filing with the Federal Energy Regulatory Commission (Commission) copies of the executed service agreements that contain a negotiated rate under Rate Schedule FT applicable to the agreements between Transco and Coral Energy Resources, L.P.

Transco states that the purpose of the instant filing is to comply with filing requirements specified in the orders granting Transco's negotiated rate authority and the Commission's Policy Statement. The effective date of these negotiated rate transactions is April 1, 2001. In compliance with the Commission's orders, the enclosed service agreements disclose the name of the customer, the actual negotiated rate and term, the receipt and delivery points, the quantity of gas to be transported and the applicable rate schedule for the service. Transco also affirms that the negotiated rate agreements do not deviate in any material aspect from the applicable Rate Schedule FT form of service agreement in the tariff.

Transco states that copies of the filing are being mailed to its affected customers and interested State Commissions.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection in the Public Reference Room. This filing maybe viewed on the web at http://www.ferc.fed.us/online/rims.htm (call 202-208-2222 for assistance). Comments, protests and interventions may be filed electronically via the internet in lieu of paper. See, 18 CFR 385.2001(a)(1)(iii) and the instructions on the Commission's web site at http://www.ferc.fed.us/efi/doorbell.htm.

David P. Boergers,
Secretary.

[FR Doc. 01-8783 Filed 4-9-01; 8:45 am]

BILLING CODE 6717-01-M